DEPARTMENT OF THE INTERIOR

Bureau of Land Management

DEPARTMENT OF AGRICULTURE

Forest Service

[BLM_UT_FRN_MO 4500181748]

Notice of Availability of the Proposed Resource Management Plan and Final Environmental Impact Statement for Bears Ears National Monument in Utah

AGENCY: Bureau of Land Management, Interior; Forest Service, Agriculture (USDA).

ACTION: Notice of availability.

SUMMARY: In compliance with the National Environmental Policy Act of 1969, as amended (NEPA), and the Federal Land Policy and Management Act of 1976, as amended (FLPMA), the Bureau of Land Management (BLM) and U.S. Department of Agriculture, Forest Service (USDA Forest Service), collectively “the Agencies,” have prepared a Proposed Resource Management Plan (RMP) and Final Environmental Impact Statement (EIS) for the Bears Ears National Monument (BENM or monument) and by this notice are announcing the start of a 30-day protest period of the Proposed RMP.

DATES: This notice announces a 30-day protest period to the BLM on the Proposed RMP beginning on the date of the Environmental Protection Agency's (EPA) publication of its Notice of Availability (NOA) of the Proposed RMP/Final EIS in the Federal Register. The EPA usually publishes its NOAs on Fridays. Protests must be postmarked or electronically submitted on the BLM's ePlanning site during the 30-day protest period.

ADDRESSES: The Proposed RMP, Final EIS and associated documents are available on the BLM ePlanning project website at https://eplanning.blm.gov/eplanning-ui/project/2020347/510. Pertinent documents may also be examined at the BLM Monticello Field Office, 365 North Main, Monticello, Utah 84535.

Instructions for filing a protest with the BLM for the BENM Proposed RMP/Final EIS can be found at: https://www.blm.gov/programs/planning-and-nepa/public-participation/filing-a-plan-protest and at 43 CFR 1610.5-2.

FOR FURTHER INFORMATION CONTACT: Jill Stephenson, Project Manager, telephone: 435-259-2100; address: Bureau of Land Management Canyon Country District, 82 E Dogwood, Moab, Utah 84532; email: jstephenson@blm.gov. Individuals in the United States who are deaf, deafblind, hard of hearing, or have a speech disability may dial 711 (TTY, TDD, or TeleBraille) to access telecommunications relay services for contacting Ms. Stephenson. Individuals outside the United States should use the relay services offered within their country to make international calls to the point-of-contact in the United States.

SUPPLEMENTARY INFORMATION: The planning area is located in San Juan County, Utah, and encompasses approximately 1.36 million acres of federal land administered by the BLM and USDA Forest Service.

The USDA Forest Service will adopt the BLM's administrative review protest procedures, as provided by the Forest Service Planning Rule at 36 CFR 219.59(a).

Purpose and Need for the Planning Effort

Presidential Proclamation 10285 directs the Agencies to “prepare and maintain a new management plan for the entire monument” for the specific purposes of “protecting and restoring the objects identified [in Proclamation 10285] and in Proclamation 9558.”

The RMP's underlying purpose (40 CFR 1502.13) is to provide a management framework, including goals, objectives, and management direction, to guide BENM management consistent with the protection of BENM objects and the management direction provided in Proclamation 10285.

The purpose and need for the BENM RMP is aligned with the purpose and need to amend the plan direction and management allocation for BENM in the Manti-La Sal National Forest Land and Resource Management Plan (LRMP). The proposed programmatic amendment incorporates the proposed BENM RMP and updated land management allocation of the BENM boundary area into the Manti-La Sal LRMP. The scope of the USDA Forest Service amendment is based on the objects identified in Proclamation 10285, and the scale applies to National Forest System (NFS) lands within the BENM boundary area.

Alternatives Considered

The Final EIS evaluates six alternatives in detail, including the no action alternative. Alternative A (the no action alternative) represents current management from the 2020 BENM Approved Monument Management Plans, which apply to lands that remained in BENM under Proclamation 9681, and the 2008 Monticello Approved RMP, 2008 Moab Approved RMP, and 1986 Manti-La Sal National Forest LRMP, as amended, which apply to the lands that were excluded from BENM under Proclamation 9681, to the extent that those management actions are consistent with Proclamation 10285. In some cases, decisions in the 2008 Monticello Approved RMP, 2008 Moab Approved RMP, and 1986 Manti-La Sal National Forest LRMP are inconsistent with Proclamation 10285; in those instances, Alternative A has been modified to be consistent with Proclamation 10285. Alternative B would provide the most permissive management for discretionary actions that are compatible with the protection of BENM objects. This alternative would focus on on-site education and interpretation and allow for the development of facilities to protect BENM objects. Alternative C would allow discretionary actions if they are necessary to protect BENM objects. This alternative would focus on off-site education and interpretation and allow for limited development of facilities to protect BENM objects. Alternative D would allow for the continuation of natural processes by limiting or discontinuing discretionary uses. This alternative would minimize human-created facilities and management and would emphasize natural conditions. Alternative E would emphasize resource protection and maximize the consideration and use of Tribal perspectives on managing the BENM landscape. This alternative includes consideration of natural processes and seasonal cycles in the management of BENM, and extensive collaboration with Tribal Nations to incorporate those considerations into the day-to-day management of the monument. The BLM and USDA Forest Service have also developed the Proposed RMP as presented in the Final EIS. The Proposed RMP is based on Alternative E, with a combination of components from the various action alternatives. Like Alternative E, the Proposed RMP emphasizes resource protection and maximizing the consideration and use of Tribal perspectives.

Public Comment Period and Development of the Proposed RMP and Final EIS

The BLM received a total of 18,975 letter submissions during the public comment period on the Draft RMP/EIS, including 15,624 letters that contained non-unique, preformulated language that appeared elsewhere in letter submissions. There were 3,351 unique submissions, from which the agencies identified substantive comments. Most submissions were focused on suggestions for specific alternatives or alternative elements; statements of support for or lack thereof for an alternative; and detailed input pertaining to various resource topics analyzed in the draft EIS, such as travel and transportation, livestock grazing, and recreation and visitor services.

The agencies were informed in the development of the Proposed RMP by public comments; input from the Bears Ears Commission, cooperating agencies, and the Utah Division of Wildlife Resources; government-to-government consultation with Tribal Nations; consultation under section 106 of the National Historic Preservation Act; and updates to the best available science.

The primary changes from the Draft RMP/EIS to the Proposed RMP/Final EIS include: the analysis of the Proposed RMP; the use of updated assessment, inventory, and monitoring data; modifications to management actions concerning recreation, travel and transportation, livestock grazing, visual resources, lands and realty, and lands with wilderness characteristics; the designation of Areas of Critical Environmental Concern (ACECs); the inclusion of the public comment process summary and responses; the development of a monitoring plan; the addition of an appendix to address scenery management on the NFS lands; and the review of applicable State and local land use plans for plan consistency. The agencies also made revisions in the Final EIS for consistency, clarity, and accuracy. In Appendix U of the Final EIS, the agencies provide responses to substantive comments on the Draft RMP/EIS, including proposed target shooting closures and ACECs.

Protest of the Proposed RMP

The BLM planning regulations state that any person who participated in the preparation of the RMP and has an interest that will or might be adversely affected by approval of the Proposed RMP may protest its approval to the BLM Director. Protest on the Proposed RMP constitutes the final opportunity for administrative review of the proposed land use planning decisions prior to the BLM adopting an approved RMP and the USDA Forest Service approving amendment of the 1986 Manti-La Sal National Forest LRMP. Instructions for filing a protest regarding the Proposed RMP with the BLM Director may be found online at https://www.blm.gov/programs/planning-and-nepa/public-participation/filing-a-plan-protest and at 43 CFR 1610.5-2. All protests must be in writing and mailed to the appropriate address, as set forth in the ADDRESSES section earlier or submitted electronically through the BLM ePlanning project website as described previously. Protests submitted electronically by any means other than the ePlanning project website will be invalid unless a protest is also submitted as a hard copy. The BLM Director will render a written decision on each protest. The BLM Reviewing Official is the BLM Assistant Director for Resources and Planning, and the USDA Forest Service Reviewing Official is the Regional Forester. The BLM and USDA Forest Service will jointly sign a memorandum documenting the decisions on the resolutions of all protests for both agencies. This shall be the final decision of the Department of the Interior and Department of Agriculture. Responses to valid protest issues will be compiled and documented in a Protest Resolution Report made available following the protest resolution online at: https://www.blm.gov/programs/planning-and-nepa/public-participation/protest-resolution-reports. Upon resolution of protests, the BLM will issue a Record of Decision (ROD) and Approved RMP, and the USDA Forest Service will issue a ROD amending the 1986 Manti-La Sal National Forest LRMP to incorporate the Approved RMP for BENM. The responsible official for the BLM is the Utah State Director; the responsible official for the USDA Forest Service is the Manti-La Sal Forest Supervisor.

Before including your phone number, email address, or other personal identifying information in your protest, you should be aware that your entire protest—including your personal identifying information—may be made publicly available at any time. While you can ask us in your protest to withhold your personal identifying information from public review, we cannot guarantee that we will be able to do so.

(Authority: 40 CFR 1506.6, 40 CFR 1506.10 (2023), 43 CFR 1610.2, 43 CFR 1610.5, 36 CFR 219.16, 36 CFR 219.59)

Gregory Sheehan,
BLM Utah State Director.
Barbara Van Alstine,
Manti-La Sal Forest Supervisor.

[FR Doc. 2024-22760 Filed 10-3-24; 8:45 am]

BILLING CODE 4331-25-P